ENVIRONMENTAL PROTECTION AGENCY

[OPPTS-00328; FRL-6813-3]

Technical Workshop for the Voluntary Children's Chemical Evaluation Program (VCCEP); Notice of a Workshop

AGENCY: Environmental Protection Agency (EPA).

ACTION: Notice.

SUMMARY: EPA and the American Chemistry Council are jointly sponsoring a workshop to present information on planning and conducting exposure assessments and characterizing and reporting exposure assessment results for the Voluntary Children's Chemical Evaluation Program (VCCEP). The workshop will consist of a series of presentations by representatives of EPA and the chemical industry. Discussion topics will include tiered approaches for children's exposure assessment, resources and models for conducting exposure assessments, examples of exposure assessment with emphasis on children's exposure assessment, summarizing and presenting exposure assessment results, and the role of peer consultation in the VCCEP. After the presentation of each topic, individual opinions of invited technical experts, interested stakeholders, and other persons in attendance will be solicited. The workshop will be of interest to companies and consortia who have signed up for the Voluntary Children's Chemical Evaluation Program (VCCEP) as well as to those who may want to voluntarily submit exposure assessment results. There is no charge for attending this workshop.

DATES: The workshop will commence at 9 a.m. on Tuesday, December 11, 2001, and end at noon on Thursday, December 13, 2001.

ADDRESSES: The workshop will be held at the Hyatt Hotel-Dulles Airport, 2300 Dulles Corner Boulevard, Herndon, VA 20171-3400.

FOR FURTHER INFORMATION CONTACT: For technical information related to the workshop for presenting chemical exposure assessment results contact: Patrick Kennedy, Economics, Exposure and Technology Division (7406), Office of Pollution Prevention and Toxics, Environmental Protection Agency, 1200 Pennsylvania Avenue NW, Washington, DC 20460; telephone number: (202) 564-8529; e-mail: kennedy.patrick@epa.gov.

For questions regarding registration and logistics contact: EPA's contractor, Eastern Research Group, Inc., (ERG). To ensure that all interested parties can be accommodated, please preregister by calling ERG's conference registration line at (781) 674-7374 or fax a registration request to (781) 674-2906. You may also send an e-mail registration request to ERG at meetings@erg.com. Prior to the workshop, registrants will be sent an agenda and a logistical fact sheet.

SUPPLEMENTARY INFORMATION:

I. General Information

A. Does this Action Apply to Me?

This action is directed to the public in general. This action may, however, be of special interest to those chemical manufacturers, importers, and processors who produce or use chemical substances that are covered by the Toxic Substances Control Act (TSCA), individuals or groups concerned with chemical testing and children's health, and animal welfare groups. Since other entities may also be interested, the Agency has not attempted to describe all the specific entities that may be affected by this action. If you have any questions regarding the applicability of this action to a particular entity, consult the technical person listed under FOR FURTHER INFORMATION CONTACT.

II. Purpose of the Meeting

The purpose of this workshop is to present and discuss technical information which may assist sponsors of chemicals in the VCCEP in planning, conducting, characterizing, and reporting exposure assessments. To facilitate the discussion at the workshop, EPA and invited speakers will present examples of exposure assessment for scenarios involving children and prospective parents. Additional examples will be given to illustrate the principles of consistency, transparency, completeness, and quality in characterizing and reporting of summary exposure assessment information. Papers, presentations, and examples presented at the workshop will be provided to attendees; selected EPA presentations and examples will be made available via the EPA Internet Site at http://www.epa.gov/opptintr/chemrtk following the workshop.

To enable the discussion, EPA has invited technical experts from industry, non-governmental organizations, and government agencies, including EPA, to discuss the presentations on exposure assessment in a roundtable format. The invited participants were selected to provide a balanced representation of stakeholder interests. Presentations by EPA and invited speakers will be followed by roundtable discussion by the invited participants. Opportunity for public comment from anyone who wishes to provide oral remarks will be provided at the conclusion of the roundtable discussion. Oral comments from the public may be limited to 5 minutes per individual to allow all those who wish to comment the opportunity to speak. Written comments may also be submitted to EPA via fax transmission to ERG at (781) 674-2906 until 1 week prior to the meeting or may be included with an evaluation of the meeting. EPA is not asking participants in the workshop to reach agreement or provide any collective recommendations on the summaries for presenting exposure assessment results. EPA's intent is to transfer technical information and the individual perspective of invited participants based upon their unique backgrounds and experiences. Accordingly, EPA does not intend to organize this workshop as an advisory committee as defined in the Federal Advisory Committee Act, 5 U.S.C. App.

List of Subjects

Environmental protection.

Dated: November 15,2001.
William H. Sanders, III,
Director, Office of Pollution Prevention and Toxics.

[FR Doc. 01-29555 Filed 11-27-01; 8:45 am]

BILLING CODE 6560-50-S